DEPARTMENT OF HOMELAND SECURITY

Coast Guard

33 CFR Part 165

[Docket No. USCG-2020-0454]

Safety Zone; Annual Fireworks Displays and Other Events in the Eighth Coast Guard District Requiring Safety Zones

AGENCY: Coast Guard, DHS.

ACTION: Notice of enforcement of regulation.

SUMMARY: The Coast Guard will enforce a safety zone for a pyrotechnics display at Green Turtle Bay Marina & Resort, Grand Rivers, KY. This action is necessary to provide for the safety of life on navigable waterways during this event. During the enforcement period, entry of vessels or persons into this zone is prohibited unless specifically authorized by the Captain of the Port Sector Ohio Valley or a designated representative.

DATES: The regulations in 33 CFR 165.801 will be enforced for the Green Turtle Bay Resort/Grand Rivers Marina Day in item 74 in Table 1 of § 165.801 from 8:30 p.m. to 9:45 p.m. on August 15, 2020.

FOR FURTHER INFORMATION CONTACT: If you have questions about this proposed rulemaking, call or email MST2 Dylan Caikowski, MSU Paducah, U.S. Coast Guard; telephone 270-442-1621 ext. 2120, email STL-SMB-MSUPaducah-WWM@uscg.mil.

SUPPLEMENTARY INFORMATION: The Coast Guard will enforce a safety zone for a pyrotechnics display at Green Turtle Bay Marina & Resort, Grand Rivers, KY from 8:30 p.m. to 9:45 p.m. on August 15, 2020. This action is necessary to provide for the safety of life on navigable waterways before, during, and after a pyrotechnics display. Our annual fireworks displays and other events in the Eighth Coast Guard District requiring safety zones, § 165.801, specifies the location of the safety zone for the Green Turtle Bay Resort/Grand Rivers Marina Day which encompasses a 420 foot radius, from the fireworks launch site, at the entrance to Green Turtle Bay Marina & Resort. During the enforcement periods, as reflected in § 165.801(a), in accordance with the general regulations in § 165 of this part, entry into this zone is prohibited unless authorized by the Captain of the Port or a designated representative.

In addition to this notice of enforcement in the Federal Register, the Coast Guard plans to provide notification of this enforcement period via Broadcast Notice to Mariners.

Dated: June 24, 2020.
A.M. Beach,
Captain, U.S. Coast Guard, Captain of the Port Sector Ohio Valley.

[FR Doc. 2020-16703 Filed 8-6-20; 8:45 am]

BILLING CODE 9110-04-P